DEPARTMENT OF STATE

[Public Notice 4067]

Office of International Energy and Commodities Policy Finding of No Significant Impact: Reef International, L.L.C.

AGENCY: Department of State.

ACTION: Notice of a finding of no significant impact with regard to an application to construct, operate, and maintain a pipeline and related facilities to transport liquefied petroleum gas, including propane and butane, across the U.S.-Mexico border at Maverick County, Texas.

SUMMARY: The Department of State has conducted an environmental assessment of the proposed construction by Reef International, L.L.C. of a pipeline and related facilities for the transport of liquefied petroleum gas, including propane and butane, crossing the international boundary at Maverick County, Texas. This information may be viewed upon request in the Office of International Energy and Commodities Policy at the Department of State.

Based on this information, the Department of State has concluded that issuance of a Presidential Permit authorizing construction of the pipeline will not have a significant effect on the existing vegetation and wildlife, water resources, land use, air quality, and human population within the United States. In reaching this conclusion, the Department considered several alternatives, including a no-action alternative.

In accordance with the National Environmental Policy Act, 42 U.S.C. Section 4321 et seq., Council on Environmental Quality Regulations, 40 CFR 1501.4 and 1508.13, and Department of State Regulations, 22 CFR 161.8(C), an environmental impact statement will not be prepared.

FOR FURTHER INFORMATION ON THE PIPELINE PERMIT APPLICATION CONTACT: Pedro G. Erviti or Matthew T. McManus, Office of International Energy and Commodities Policy, Department of State, Washington, DC 20520; or by telephone at (202) 647-2857 or (202) 647-3423; or by fax at (202) 647-4037.

SUPPLEMENTARY INFORMATION: Reef is a limited liability corporation organized under the laws of the State of Texas with its principal office located in Corpus Christi, Texas. The proposed pipeline would be adjacent to a proposed natural gas pipeline for which Reef has received a Presidential permit from the Federal Energy Regulatory Commission. On January 31, 2002, the Department of State published in the Federal Register a Notice of Receipt of Application for a Presidential Permit. No public comments were received, and the federal agencies consulted expressed no opposition to issuing the permit. A finding of no significant impact is adopted, and an environmental impact statement will not be prepared.

Dated: July 15, 2002.
Matthew McManus,
Acting Chief, Energy Producer-Country Affairs Division, Office of International Energy and Commodities Policy, Department of State.

[FR Doc. 02-18232 Filed 7-18-02; 8:45 am]

BILLING CODE 4710-07-P